DEPARTMENT OF LABOR

Employment and Training Administration

[TA-W-63,197]

Dan River, Inc., Danville Operations, Danville, VA; Notice of Affirmative Determination Regarding Application for Reconsideration

By application dated July 3, 2008, a company official requested administrative reconsideration of the negative determination regarding workers' eligibility to apply for Trade Adjustment Assistance (TAA) and Alternative Trade Adjustment Assistance (ATAA) applicable to workers and former workers of the subject firm. The determination was issued on May 29, 2008. The Notice of determination was published in the Federal Register on June 16, 2008 (73 FR 34044).

The initial investigation resulted in a negative determination based on the finding that the worker group engaged in production planning, inventory control and label/packaging design activities, does not produce an article within the meaning of Section 222(a)(2) of the Act.

In the request for reconsideration, the company official provided additional information regarding activities of the workers at the subject facility. The petitioner stated that workers of the subject firm were engaged in “final light-manufacturing and assembly of retail products.”

The Department has carefully reviewed the request for reconsideration and the existing record and has determined that the Department will conduct further investigation to determine if the workers meet the eligibility requirements of the Trade Act of 1974.

Conclusion

After careful review of the application, I conclude that the claim is of sufficient weight to justify reconsideration of the U.S. Department of Labor's prior decision. The application is, therefore, granted.

Signed at Washington, DC, this 11th day of July 2008.
Linda G. Poole,
Certifying Officer, Division of Trade Adjustment Assistance.

[FR Doc. E8-16568 Filed 7-18-08; 8:45 am]

BILLING CODE 4510-FN-P